DEPARTMENT OF STATE

[Public Notice: 10301]

E.O. 13224 Designation of Harakat al-Sabireen, aka Al-Sabirin, aka Al-Sabireen, aka a-Sabrin organization, aka Al-Sabireen Movement for Supporting Palestine, aka Al-Sabireen for the Victory of Palestine, aka The Sabireen Movement, aka HESN, aka Movement of Those Who Endure With Patience, aka Movement of the Patient Ones as a Specially Designated Global Terrorist

Acting under the authority of and in accordance with section 1(b) of Executive Order 13224 of September 23, 2001, as amended by Executive Order 13268 of July 2, 2002, and Executive Order 13284 of January 23, 2003, I hereby determine that the person known as Harakat al-Sabireen, also known as Al-Sabirin, also known as Al-Sabireen, also known as a-Sabrin organization, also known as Al-Sabireen Movement for Supporting Palestine, also known as Al-Sabireen for the Victory of Palestine, also known as The Sabireen Movement, also known as HESN, also known as Movement of Those Who Endure with Patience, also known as Movement of the Patient Ones, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: December 19, 2017.
Rex W. Tillerson,
Secretary of State.

[FR Doc. 2018-02295 Filed 2-5-18; 8:45 am]

BILLING CODE 4710-05-P